DEPARTMENT OF TRANSPORTATION

Office of the Secretary

Notice of Applications for Certificates of Public Convenience and Necessity and Foreign Air Carrier Permits Filed Under Subpart B (Formerly Subpart Q) During the Week Ending March 19, 2004

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-10052, OST-2004-17348.

Date Filed: March 15, 2004.

Due Date for Answers, Conforming Applications, or Motion to Modify Scope: April 5, 2004.

Description: Application of ASTAR Air Cargo, Inc., requesting renewal and amendment of its certificate of public convenience and necessity for Route 725, Segments 7 through 9, to engage in scheduled foreign air transportation of property and mail between points in the United States and points in Mexico.

Andrea M. Jenkins,
Program Manager, Docket Operations, Federal Register Liaison.

[FR Doc. 04-7107 Filed 3-30-04; 8:45 am]

BILLING CODE 4910-62-P